DEPARTMENT OF TRANSPORTATION

Federal Aviation Administration

14 CFR Parts 413, 415, and 417

[Docket No. FAA-2002-7953; Notice No. 02-12]

RIN 2120-AG37

Licensing and Safety Requirements for Launch

AGENCY: Federal Aviation Administration (FAA), DOT.

ACTION: Proposed rule; additional information.

SUMMARY: The FAA is adding information to the supplemental notice of proposed rulemaking (SNPRM) published on July 30, 2002. The information relates to the public meeting procedures described in the SNPRM. This document provides a telephone number for interested parties who wish to participate in the public meeting via telephone.

DATES: The FAA will host a public meeting on September 6, 2002, from 8:30 a.m. to 4 p.m.

ADDRESSES: The public meeting will take place at 800 Independence Avenue, SW., Washington, DC. Anyone wishing to participate in the public meeting via telephone should call (202) 493-2248, with no pass code required.

FOR FURTHER INFORMATION CONTACT: Brenda Parker, (202) 385-4713.

SUPPLEMENTARY INFORMATION: On July 30, 2002, the FAA published a supplemental notice of proposed rulemaking (SNPRM) to amend an earlier proposal to amend the commercial space transportation regulations governing licensing and safety requirements for launch (67 FR 49456). In that SNPRM, we described procedures for a public meeting we will hold at the FAA headquarters building. See the DATES and ADDRESSES sections of this notice for the time and location of the meeting. We are not changing the date and location of the public meeting.

In this document, we are adding a telephone number that interested parties may call to participate in the meeting via telephone. It is not necessary for a person who wishes to participate in the meeting to be physically present at the FAA headquarters in Washington, DC. A person may call (202) 493-2248 to listen to the proceedings or to participate by asking a question or making a statement. No pass code or other number is required. Interested parties should note that this is not a toll-free number.

Issued in Washington, DC, on August 21, 2002.
Anthony F. Fazio,
Director, Office of Rulemaking.

[FR Doc. 02-21779 Filed 8-22-02; 3:57 pm]

BILLING CODE 4910-13-P